FEDERAL COMMUNICATIONS COMMISSION

47 CFR Parts 2 and 97

[ET Docket No. 10-98; FCC 10-76]

Amateur Radio Use of the Allocation at 5 MHz

AGENCY: Federal Communications Commission.

ACTION: Proposed rule.

SUMMARY: In this document the Commission proposes to amend rules relating to the Amateur Radio Service. Specifically, the Commission proposes to modify the rules pertaining to the use of five channels in the 5330.6-5406.4 kHz band (the 60 meter band) to replace one designated channel with one that is less encumbered, to authorize three additional emission designators, and to increase the maximum authorized power in this band.

DATES: Comments must be filed on or before July 15, 2010, and reply comments must be filed on or before July 30, 2010.

ADDRESSES: You may submit comments, identified by ET Docket No. 10-98, by any of the following methods:

• Federal eRulemaking Portal: http://www.regulations.gov. Follow the instructions for submitting comments.

• Federal Communications Commission's Web Site: http://www.fcc.gov/cgb/ecfs/. Follow the instructions for submitting comments.

• E-mail: [Optional: Include the E-mail address only if you plan to accept comments from the general public]. Include the docket number(s) in the subject line of the message.

• Mail: [Optional: Include the mailing address for paper, disk or CD-ROM submissions needed/requested by your Bureau or Office. Do not include the Office of the Secretary's mailing address here.]

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION of this document.

FOR FURTHER INFORMATION CONTACT: Tom Mooring, Office of Engineering and Technology, (202) 418-2450, e-mail: Tom.Mooring@fcc.gov, TTY (202) 418-2989.

SUPPLEMENTARY INFORMATION: This is a summary of the Commission's Notice of Proposed Rule Making, ET Docket No. 10-98, FCC 10-76, adopted May 4, 2010 and released May 7, 2010. The full text of this document is available for inspection and copying during normal business hours in the FCC Reference Center (Room CY-A257), 445 12th Street, SW., Washington, DC 20554. The complete text of this document also may be purchased from the Commission's copy contractor, Best Copy and Printing, Inc., 445 12th Street, SW., Room, CY-B402, Washington, DC 20554. The full text may also be downloaded at: http://www.fcc.gov.

Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/or the Federal eRulemaking Portal: http://www.regulations.gov.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Summary of Notice of Proposed Rulemaking

1. In the Notice of Proposed Rule Making (NPRM), the Commission proposes to amend parts 2 and 97 of the Commission's Rules relating to the Amateur Radio Service. Specifically, the Commission proposes to modify the rules pertaining to the use of five channels in the 5330.6-5406.4 kHz band (the 60 meter band) to replace one designated channel with one that is less encumbered, to authorize three additional emission designators, and to increase the maximum authorized power in this band. These proposals are in response to a petition for rulemaking filed by the American Radio Relay League (ARRL). Additionally, and on its own motion, the Commission proposes to make editorial revisions to the relevant portions of the Table of Frequency Allocations (Allocation Table) in parts 2 and 97.

2. On October 20, 2006, ARRL filed a petition for rulemaking (ARRL Petition) seeking certain modifications to the rules governing amateur radio use of the 60 meter band. In its petition, ARRL requests that the Commission make three modifications to the existing rules governing amateur radio use of the 60 meter band in order to increase the flexibility in the use of the band and to facilitate emergency communications provided by the Amateur Radio Service. First, ARRL requests that one of the available channels, 5368 kHz, be replaced with 5358.5 kHz. Second, it requests that three additional emission designators (150HA1A, 60H0J2B, and 2K80J2D) be authorized in the 60 meter band. Third, it requests that the maximum effective radiated power on channels in the 60 meter band be increased from 50 to 100 watts (W) peak envelope power (PEP).

3. The existing amateur radio use of the 60 meter band represents a balancing of important interests—the desire to provide amateur operators with frequencies that could be used to complete disaster communications links when other bands are not available, and the need to protect important primary Federal operations in the 60 meter band. The ARRL petition seeks to modify the existing spectrum sharing scenario in a manner that appears to be consistent with the interests of both Federal and amateur users in the band, and the Commission tentatively concludes that the changes proposed by ARRL should be adopted.

4. ARRL states that its request to replace the 5368 kHz channel with 5358.5 kHz is based on reports from amateur operators of frequent interference from a digital signal on the existing authorized channel. Based on this information, the Commission tentatively agrees that the proposed modification would eliminate interference and enhance amateur radio operations and that it should be implemented. The Commission notes that most non-Federal licensees in the 60 meter band are licensed across the larger band 5005-5450 kHz and that many are also licensed across other bands as well. Therefore, the Commission believes that its proposal to exchange one amateur channel for another in the 60 meter band will have a de minimis impact on these licensees, while benefiting amateur radio users who have a limited number of channels in the band on which they may operate. The Commission also believes that this exchange will reduce the potential for interference from amateur operations to the primary Federal stations operating in the 5330.6-5406.4 kHz band.

5. ARRL indicates that its survey of amateur radio users in the band found that there is significant demand for modulation techniques that would allow telegraphy and data transmissions in addition to the one that is currently permitted for voice transmissions (single sideband suppressed carrier upper sideband, emission type 2K80J3E). Specifically, ARRL states that Morse code telegraphy by means of on-off keying (emission designator 150HA1A) continues to be used by amateur stations because of its reliability in difficult propagation conditions. ARRL also states that the other requested emission designators—60H0J2B (which is generally known as PSK31) and 2K80J2D (which is generally known as PACTOR-III)—are popular narrowband data modes. The Commission proposes to add these three emission designators, which would allow four permissible emission types to be used in the 60 meter band. It proposes to permit any additional modulation techniques that it adopts to be used on all assigned frequencies within the 60 meter band.

6. ARRL states that the Commission could require amateur operators to limit the length of transmissions in the two data emission modes in order to better position amateur operators to avoid causing harmful interference to primary operations, and suggests adopting a rule that incorporates a general requirement to limit the duration of data transmissions. The Commission seeks comment on whether a rule addressing transmission limits would help ensure that in the currently infrequent instances in which Federal agencies exercise their primary use of the 60 meter band frequencies, those amateur licensees who have been operating on a secondary basis will be better positioned to avoid causing prohibited harmful interference. To the extent that commenters support a specific time limit, the Commission asks whether a transmission length of three minutes would be sufficient. If not, it asks what limits should be adopted. In addition, the Commission seeks comment on whether amateur stations should be permitted to transmit emission types in addition to the four discussed in the 60 meter band section without increasing the likelihood of interference to primary users. To the extent that commenters identify such emission designators, they should discuss their use and benefits and, in particular, how the use of those emission designators can be balanced with the Commission's continued interest in protecting primary stations in the 60 meter band.

7. In support of its proposal to increase the power level, ARRL states that typical transmitter output power in modern amateur radio transceivers is 100 W PEP, and that the present 50 W PEP transmitter output power limit compromises communication reliability in the 60 meter band. ARRL claims that there are, at certain times of the year, high static levels in this frequency range. It argues that a slightly higher transmitter power output would bolster reliability, especially in connection with emergency communications. ARRL also suggests that amateur operators be required to use Voice-Operated Transmit (VOX) in the phone emission mode. ARRL contends that adopting this requirement, in conjunction with an increased transmitter output power limit, would permit a Federal user to interrupt an amateur station's transmission quickly and easily without waiting for an unpredictable end of the transmission. The Commission seeks comment on these proposals and whether it should adopt them. The Commission specifically seeks comment on whether a VOX mode of operation might increase the potential for interference because of its susceptibility to keying a radio to transmit under high surrounding noise environments such as might be found in an emergency operations center.

8. In the Commission's proposed rules to implement the changes discussed in this proceeding, in some cases it has incorporated editorial revisions intended to make the rules easier to read and to ensure that control operators have the necessary information to easily determine their proper operating requirements on the 60 meter band frequencies. Also, at the request of the National Telecommunications and Information Administration (NTIA), the Commission solicits comment on whether amateur operators that provide emergency communications using the 60 meter band should be encouraged to add a sound card generated Automatic Link Establishment (ALE) capability to their stations.

Ordering Clauses

9. Pursuant to §§ 1, 4, 301, 302(a), and 303(b), (c) and (f) of the Communications Act of 1934, as amended, 47 U.S.C. 151, 154, 301, 302a(a), and 303(b), (c) and (f), the notice of proposed rulemaking is hereby adopted.

10. The Commission's Consumer and Governmental Affairs Bureau, Reference Information Center, shall send a copy of the notice of proposed rulemaking, including the Initial Regulatory Flexibility Certification, to the Chief Counsel for Advocacy of the Small Business Administration.

Initial Regulatory Flexibility Certification

11. The Regulatory Flexibility Act of 1980, as amended (RFA),¹ requires that an initial regulatory flexibility analysis be prepared for notice and comment rulemaking proceedings, unless the agency certifies that “the rule will not, if promulgated, have a significant economic impact on a substantial number of small entities.” ² The RFA generally defines the term “ small entity” as having the same meaning as the terms “small business,” “ small organization,” and “small governmental jurisdiction.” ³ In addition, the term “small business” has the same meaning as the term “small business concern” under the Small Business Act.⁴ A “small business concern” is one which: (1) Is independently owned and operated; (2) is not dominant in its field of operation; and (3) satisfies any additional criteria established by the Small Business Administration (SBA).⁵

¹ The RFA, see 5 U.S.C. 601-612, has been amended by the Small Business Regulatory Enforcement Fairness Act of 1996 (SBREFA), Public Law 104-121, Title II, 110 Stat. 857 (1996).

² 5 U.S.C. 605(b).

³ 5 U.S.C. 601(6).

⁴ 5 U.S.C. 601(3) (incorporating by reference the definition of “small business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁵ 15 U.S.C. 632.

12. In the NPRM, the Commission proposed to amend the amateur service rules in order to replace one of the channels in the 60 meter band with a less encumbered channel, to provide for additional emssion designators, and to increase the maximum authorized power.

13. Because “small entities,” as defined in the RFA, are not persons eligible for licensing in the amateur service, the proposed changes to part 97 does not apply to “small entities.” Rather, they apply exclusively to individuals who are the control operators of amateur radio stations.

14. As of January 22, 2009, the Commission had issued 100 call signs to 46 licensees in the Conventional Industrial/Business Pool Radio Service (IG) in the five 2.8 kHz channels at issue in this proceeding. These call signs authorize the use of the entire 5005-5450 kHz band and other frequency bands. Because these licensees can tune across the 5005-5450 kHz band and other frequency bands, the Commission believes that replacing one 2.8 kHz channel with another nearby channel for secondary amateur service use would have a de minimis effect on incumbent non-Federal IG licensees.⁶ Moreover, the Commission believes that, at most, only 17 of the IG licensees met the definition of a small entity. Therefore, it certifies that the proposals in this NPRM, if adopted, will not have a significant economic impact on a substantial number of small entities.

⁶ These licensees are authorized under 90.266 of the Commission's Rules. Section 90.266(e) requires that “equipment shall be capable of transmitting and receiving on any frequency between 2 and 25 MHz and capable of immediate change among the frequencies, provided, however, that this requirement does not apply to equipment manufactured prior to August 15, 1983.” Section 90.266(f) limits licensees to a maximum necessary bandwidth of 2.8 kHz. 47 CFR 90.266(e) and (f).

15. If commenters believe that the proposals discussed in the NPRM require additional RFA analysis, they should include a discussion of these issues in their comments and additionally label them as RFA comments. The Commission will send a copy of the NPRM, including a copy of this initial certification, to the Chief Counsel for Advocacy of the SBA.⁷

⁷ See 5 U.S.C. 605(b).

List of Subjects 47 CFR Parts 2 and 97

Communications equipment, Radio.

Federal Communications Commission.
Marlene H. Dortch,
Secretary.

Rule Changes

For the reasons discussed in the preamble, the Federal Communications Commission proposes to amend 47 CFR parts 2 and 97 to read as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended by revising footnote US381 to read as follows.

§ 2.106 Table of Frequency Allocations.

* * * * *

United States (US) Footnotes

* * * * *

US381 In the band 5330.6-5406.4 kHz (60 m band), the assigned (center) frequencies 5332, 5348, 5358.5, 5373, and 5405 kHz are allocated to the amateur service on a secondary basis. Amateur service use of the 60 m band frequencies is restricted to a maximum effective radiated power of 100 W PEP and to the following emission modes and designators: phone (2K80J3E), data (2K80J2D and 60H0J2B), and CW (150HA1A). Amateur operators using data emissions must exercise care to limit the length of transmissions so as to avoid causing harmful interference to Federal stations.

* * * * *

PART 97—AMATEUR RADIO SERVICE

3. The authority citation for part 97 continues to read as follows:

Authority: 48 Stat. 1066, 1082, as amended: 47 U.S.C. 154, 303. Interpret or apply 48 Stat. 1064-1068, 1081-1105, as amended; 47 U.S.C. 151-155, 301-609, unless otherwise noted.

4. Section 97.303 is amended by revising paragraph (h) to read as follows.

§ 97.303 Frequency sharing requirements.

* * * * *

(h) 60 m band: (1) In the 5330.6-5406.4 kHz band (60 m band), amateur stations shall only transmit on the five center frequencies listed in the table below. In order to meet this requirement, amateur stations transmitting phone emissions and PACTOR-III data emissions may set the carrier frequency 1.4 kHz below the center frequency as specified in the table below. For amateur stations transmitting CW emissions and PSK31 data emissions, the carrier frequency shall be set to the center frequency. Amateur operators shall ensure that their station's transmission occupies not more than 2.8 kHz centered on each of these frequencies.

60 M Band Frequencies (kHz)
Center | Carrier
5332.0 | 5330.6
5348.0 | 5346.6
5358.5 | 5357.1
5373.0 | 5371.6
5405.0 | 5403.6

(2) Amateur stations transmitting on the 60 m band must not cause harmful interference to, and must accept interference from, stations authorized by:

(i) The United States (NTIA and FCC) and other nations in the fixed service; and

(ii) Other nations in the mobile except aeronautical mobile service.

* * * * *

5. Section 97.305 is amended by revising the entries for wavelength band HF in the table following paragraph (c) to read as follows:

§ 97.305 Authorized emission types.

* * * * *

(c) * * *

Wavelength band | Frequencies | Emission types authorized | Standards see § 97.307(f), paragraph:
* * * * * * *
HF: |  |  |
80 m | Entire band | RTTY, data | (3), (9).
75 m | Entire band | Phone, image | (1), (2).
60 m | All frequencies | Phone, data | (14).
40 m | 7.000-7.100 MHz | RTTY, data | (3), (9).
* * * * * * *

6. Section 97.307 is amended by adding new paragraph (f)(14) to read as follows.

§ 97.307 Emission standards.

* * * * *

(f) * * *

(14) In the 60 m band:

(i) A station may transmit only phone, data, and CW emissions using the emission designators and any additional restrictions that are specified in the table below (except that the use of a narrower necessary bandwidth is permitted):

60 M Band Emission Requirements
Emission type | Emission designator | Restricted to
Phone | 2K80J3E | Upper sideband only.
Data | 2K80J2D | Data using PACTOR-III technique.
Do | 60H0J2B | Data using PSK31 technique.
CW | 150HA1A |

(ii) The following requirements also apply:

(A) When transmitting phone emissions, the suppressed carrier frequency must be set as specified in 97.303(h).

(B) The control operator of a station transmitting data emissions must exercise care to limit the length of transmission so as to avoid causing harmful interference to United States Government stations.

7. Section 97.313 is amended by adding paragraph (i) to read as follows.

§ 97.313 Transmitter power standards.

* * * * *

(i) No station may transmit with an effective radiated power (ERP) exceeding 100 W PEP on the 60 m band. For the purpose of computing ERP, the transmitter PEP will be multiplied by the antenna gain relative to a dipole or the equivalent calculation in decibels. A half-wave dipole antenna will be presumed to have a gain of 1. Licensees using other antennas must maintain in their station records either the antenna manufacturer's data on the antenna gain or calculations of the antenna gain.

[FR Doc. 2010-14384 Filed 6-14-10; 8:45 am]

BILLING CODE 6712-01-P